Proclamation 10155 of March 1, 2021

Read Across America Day, 2021

By the President of the United States of America

A Proclamation

I have always believed that America's children are the kite strings that keep our national ambitions aloft—the more we do today to spark their curiosity, their confidence, and their imaginations, the stronger our country will be tomorrow. The key to developing young learners into engaged, active, and innovative thinkers is instilling in them a love of reading at an early age. Reading is the gateway to countless skills and possibilities—it sets children on the path to a lifetime of discovery. On this Read Across America Day, we celebrate the parents, educators, librarians, and other champions of reading who help launch our Nation's children on that critical path.

Once a passion for reading takes hold in a young person, the benefits extend far beyond the classroom. Reading broadens our perspective, introduces us to new worlds, cultures, and languages, and cultivates our sense of empathy and understanding of other people's experiences and views. Reading informs us, empowers us, and teaches us the lessons of history. It helps us make sense of the world as it is—and inspires us to dream of what it could be. Studies also show that reading improves our memory, helps us become better problem solvers, and even reduces the chance of developing cognitive disorders such as Alzheimer's down the road. And with the right book in hand, reading can nourish not only our minds, but our souls.

The First Lady often observes that “any nation that out-educates us will out-compete us.” She is absolutely correct. Literacy is essential to finding a good-paying job, advancing in your career, and carving out your place in the middle class. Reading proficiency is what makes us a Nation of innovators and entrepreneurs—a Nation capable of building and growing a dynamic 21st century economy. Reading comprehension is also what allows us to discern fact from fiction—a critical skill at all times, and especially so in the midst of a global pandemic, when the health and safety of our loved ones could very well depend on determining the veracity of what we read.

According to Department of Education estimates, more than half of United States adults (54 percent) between 16- and 74-years of age lack proficiency in literacy, reading below the equivalent of a sixth-grade level. Illiteracy incurs a massive economic toll on our economy, and keeps not just individuals, but our entire Nation, from reaching our full potential. By every calculation, reading matters to our shared quality of life.

For countless Americans, the path to literacy begins with story time in their school classroom. That is one of many reasons why my Administration is providing support to States and communities to help them create the conditions for students to return to safe, in-person learning as quickly as possible. We must ensure that all of our children receive the high-quality instruction and essential classroom time they need to learn and grow. It is a national imperative that we minimize the learning loss caused by the pandemic—and address the disproportionate impact that lost time imposes on our most vulnerable students and families.

NOW, THEREFORE, I, JOSEPH R. BIDEN JR., President of the United States of America, by virtue of the authority vested in me by the Constitution and the laws of the United States, do hereby proclaim March 2, 2021, as Read Across America Day. I call upon children, families, educators, librarians, public officials, and all the people of the United States to observe this day with appropriate programs, ceremonies, and activities.

IN WITNESS WHEREOF, I have hereunto set my hand this first day of March, in the year of our Lord two thousand twenty-one, and of the Independence of the United States of America the two hundred and forty-fifth.

[FR Doc. 2021-04647

Filed 3-3-21; 8:45 am]

Billing code 3295-F1-P